DEPARTMENT OF THE INTERIOR

Bureau of Land Management

Bureau of Indian Affairs

[LLNM004400. L16100000.DO0000. LXSSG0690000 18XL1109AF]

Notice of Availability of the Draft Oklahoma, Kansas, and Texas Joint Environmental Impact Statement/Bureau of Land Management Resource Management Plan and Bureau of Indian Affairs Integrated Resource Management Plan

AGENCY: Bureau of Land Management, Interior; and Bureau of Indian Affairs, Interior.

ACTION: Notice of availability.

SUMMARY: In accordance with the National Environmental Policy Act of 1969 (NEPA), as amended, and the Federal Land Policy and Management Act of 1976, as amended, the Bureau of Land Management (BLM) and Bureau of Indian Affairs (BIA) have prepared a Draft Joint Environmental Impact Statement (EIS)/BLM Draft Resource Management Plan (RMP) and BIA Integrated Resource Management Plan (IRMP) for the BLM Oklahoma Field Office, BIA Southern Plains Region, and BIA Eastern Oklahoma Region, and by this Notice is announcing the opening of the public comment period.

DATES: To ensure that comments will be considered, the BLM and BIA must receive written comments on the Draft Joint EIS/BLM RMP and BIA IRMP within 90-days of the date the Environmental Protection Agency publishes its Notice of Availability for the Draft Joint EIS/BLM RMP and BIA IRMP in the Federal Register. The BLM and BIA will announce future public meetings, hearings, or other public participation activities at least 15 days in advance, through public notices, media releases, and/or direct mailings.

ADDRESSES: You may submit comments related to the Draft Joint EIS/BLM RMP and BIA IRMP through either of the following methods:

• Project Website: https://www.blm.gov/programs/planning-and-nepa/plans-in-development/new-mexico/oklahoma-rmp.

• Email: BLM_NM_OKT_RMP@blm.gov.

• Fax: 405-579-7101, Attn.: Mr. Patrick Rich, RMP Team Lead.

• Mail: Bureau of Land Management, Oklahoma Field Office, Attn.: Patrick Rich, RMP Team Lead, 201 Stephenson Parkway, Suite 1200, Norman, Oklahoma 73072.

• Mail: BIA Eastern Oklahoma Regional Office, Attn.: RMP Comments, P.O. Box 8002, Muskogee, Oklahoma 74402-4600.

• Mail: BIA Southern plains Regional Office, Attn.: RMP Comments, P.O. Box 368, Anadarko, Oklahoma 73005-0368.

Copies of the Draft Joint EIS/BLM RMP and BIA IRMP are available from the BLM and the BIA at the following locations:

• BLM Oklahoma Field Office, 201 Stephenson Parkway, Suite 1200, Norman, Oklahoma 73072

• BIA Eastern Oklahoma Regional Office, 3100 Peak Blvd., Muskogee, Oklahoma 74401

• BIA Eastern Oklahoma Regional Office, 100 Riverside Drive, Anadarko, Oklahoma 73005

• BLM New Mexico State Office, 301 Dinosaur Trail, Santa Fe, New Mexico 87508

The Draft Joint EIS/BLM RMP and BIA IRMP background documents are available on the ePlanning website at: https://www.blm.gov/programs/planning-and-nepa/plans-in-development/new-mexico/oklahoma-rmp.

FOR FURTHER INFORMATION CONTACT: Patrick Rich, RMP Team Lead; telephone: 405-579-7154; address: 201 Stephenson Parkway, Suite 1200, Norman, Oklahoma 73072; or email: prich@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: In the Draft Joint EIS/BLM RMP and BIA IRMP, the BLM and BIA analyze the environmental consequences of four alternatives under consideration for managing Federal lands and minerals within the Oklahoma-Kansas-Texas planning area. The BLM Oklahoma Field Office administers approximately 15,100 acres of public lands, including approximately 11,800 acres at the Cross Bar Management Area near Amarillo, Texas; about 3,300 acres of small tracts scattered across the planning area; and Federal lands along the 116-mile stretch of the Red River between the North Fork of the Red River and the 98th Meridian (Red River area). No exact acreages of Federal lands along the Red River are available at this time, because the full 116-mile stretch of land has not been surveyed. The Oklahoma Field Office also administers approximately 4,810,900 acres of subsurface Federal mineral estate across the planning area, including approximately 3,991,100 acres underlying surface estate managed by other Federal agencies, such as U.S. Fish and Wildlife Service, U.S. Forest Service, and National Park Service, and approximately 408,000 acres of split-estate, where Federal minerals underlie private surface estate. The RMP only pertains to Federal lands and has no effect on the boundary of the Federal lands.

The BIA decision area includes approximately 394,200 surface acres and 2,033,500 mineral estate acres for the BIA Eastern Oklahoma Regional Office. Approximately 1,474,500 acres of the BIA Eastern Oklahoma Regional Office jurisdictional area is limited to coal or other minerals in Osage County. The BIA decision area also includes approximately 457,500 surface acres and 632,000 mineral estate acres for the BIA Southern Plains Regional Office. This includes lands and mineral estate in Oklahoma, Kansas, Texas, and Richardson County, Nebraska.

The BLM is the lead agency in developing the land use plan, while the BIA is a co-lead partner in this joint, integrated planning effort. The Draft Joint EIS/BLM RMP and BIA IRMP provides a land use plan that will replace the BLM's current 1994 Oklahoma RMP, the 1991 Kansas RMP, and the 1996 Texas RMP, as amended. RMP revision and consolidation is necessary due to the numerous changes, including renewable energy, recreation, special status species, visual resources, and wildlife habitat that have occurred across the BLM Oklahoma Field Office planning area since publication. New resource data are available for consideration, and new policies, guidelines, and laws have been established.

Land use planning and NEPA regulations require the BLM and BIA to formulate a reasonable range of alternatives to consider different management scenarios and different means of addressing resource or resource-use conflicts. Established planning criteria, as outlined in 43 CFR part 1610, guide the alternatives-development process. This pursuit provides the BLM, BIA, and the public with an understanding of the various ways in which challenges associated with resources and resource uses might be resolved. This draft land use plan offers the BLM State Director for New Mexico, Oklahoma, Kansas, and Texas; the BIA Eastern Oklahoma Regional Director; and the BIA Southern Plains Regional Director a reasonable range of alternatives from which to make informed decisions. The four alternatives analyzed in the Draft Joint EIS/BLM RMP and BIA IRMP are generally described as follows:

• Alternative A (No Action) is a continuation of existing land use management actions under the current Kansas, Oklahoma, and Texas RMPs and associated amendments;

• Alternative B (Agency Preferred) represents a balanced mix of land use management actions intended to address current and future land use management issues, including provisions for energy development, recreational opportunities, and conservation of natural resources;

• Alternative C represents land use management strategies intended primarily to preserve and protect ecosystem health and resource values across the planning area; and

• Alternative D represents land use management strategies intended primarily to develop resources and promote economic development across the decision area, such as livestock grazing, energy and mineral development, and recreation.

The BLM is considering areas of critical environmental concern (ACEC) during this planning process, and has proposed one ACEC in the Draft RMP to protect certain resource values. Pertinent information regarding this ACEC, including proposed designation acreage, resource-use limitations, if designated, and the alternatives affected are summarized below.

Cross Bar Management Area ACEC: Alternative C proposes a 10,500-acre ACEC for the Cross Bar Management Area. This ACEC would be managed to protect important biological, cultural, scenic, and historic resources that meet the criteria for relevance and importance. The resource use limitations which would occur if this ACEC is formally designated are as follows:

• Closed to off-highway vehicle use and mechanized travel, except for the main access road and administrative use;

• Non-mechanized trail use limited to designated trails;

• No surface occupancy stipulation for fluid minerals development;

• Closed to mineral material disposal and non-energy leasable mineral development;

• Managed as a right-of-way exclusion zone;

• Visual resources would be managed as visual resource management class II and III (camping areas);

• Vegetation management would emphasize high-priority habitats identified in state wildlife action plans;

• Maintain cover for wildlife and migratory birds;

• Reduce impacts on paleontological resources from ground disturbance and access; and

• Available for livestock grazing.

The land use planning process was initiated on July 26, 2013, through a Notice of Intent published in the Federal Register (78 FR 45266), notifying the public of a formal scoping period.

Seventy-two cooperating agencies expressed interest in collaborating with the BLM and BIA during the NEPA process, and the following agencies signed a formal cooperating agency agreement:

1. Adair County Commissioners, OK

2. Barton County Commissioners, KS

3. Bureau of Reclamation Nebraska-Kansas Area Office

4. Brazos River Authority

5. Caddo County Commissioners, OK

6. Choctaw County Commissioners, OK

7. Citizen Potawatomi Nation

8. Clay County, TX

9. Cleveland County Commissioners, OK

10. Coal County Commissioners, OK

11. Cotton County Commissioners, OK

12. Creek County Commissioners, OK

13. Denton County Commissioners, TX

14. Douglas County Commissioners, KS

15. Hamilton County Commissioners, KS

16. Hughes County Commissioners, KS

17. Kansas Corporation Commission

18. Kansas Water Office

19. Latimer County Commissioners, OK

20. Lincoln County Commissioners, OK

21. Love County Commissioners, OK

22. Marion County Commissioners, TX

23. Montague County Commissioners, TX

24. Moore County Commissioners, TX

25. Oklahoma Department of Wildlife Conservation

26. Scurry County Commissioners, TX

27. Wichita County, TX

28. Kansas Corporation Commission

29. U.S. Fish and Wildlife Service Region 2

30. Board of Regents of the University of Oklahoma by and through the Oklahoma Climatological Survey

31. Young County Commissioners, TX

32. Sequoyah County Commissioners, OK

33. Sumner County Commissioners, KS

34. Tonkawa Tribe of Oklahoma

35. Red River Authority of Texas

36. Muscogee (Creek) Nation

37. Texas State Soil and Water Conservation Board

38. Texas General Land Office

39. Office of Surface Mining Reclamation and Enforcement Mid-Continent Region

40. Oklahoma Department of Environmental Quality

41. Oklahoma Department of Mines

42. Okfuskee County Commissioners, OK

43. Oklahoma Geologic Survey

44. Osage Nation

45. Payne County Commissioners, OK

46. Pontotoc County Commissioners, OK

47. Pushmataha County Commissioners, OK

48. Tulsa County Commissioners, OK

49. Collin County Commissioners Court

50. Natural Resources Conservation Service Meade Service Center

51. LeFlore County Commissioners, OK

52. United States Environmental Protection Agency Region 6

53. Wilbarger County, TX

54. Murray County Commissioner, District 2

55. National Forest and Grasslands of Texas

56. Johnson County, KS

57. Texas Railroad Commission

58. United States Army Corps of Engineers, Fort Worth

59. Cooke County Commissioners, TX

60. Cherokee Nation

61. Cherokee County Commissioners, KS

62. Jackson County Commissioners, KS

63. McConnell Air Force Base

64. Altus Air Force Base

65. Vance Air Force Base

66. The Kansas Natural Resource Coalition

67. Tinker Air Force Base

68. Dyess Air Force Base

69. Goodfellow Air Force Base

70. Joint Base San Antonio, TX

71. Laughlin Air Force Base

72. Sheppard Air Force Base

The BLM and BIA held 17 scoping meetings between November 2013 and January 2014, throughout Kansas, Oklahoma, and Texas, with stakeholders, interest groups, and the public.

During the scoping period, the public provided the BLM Oklahoma Field Office with input on relevant issues to consider in the planning process. Additional information was collected during three additional workshops, one each in Kansas, Oklahoma, and Texas with the public and cooperating agencies. Based on these issues, conflicts, information, and the BLM and BIA goals and objectives for this planning effort, the BLM-BIA Interdisciplinary Team formulated action alternatives for consideration and analysis in the Draft Joint EIS/BLM RMP and BIA IRMP. Following the close of the public comment period, the BLM and BIA will use any substantive public comments to revise the Draft Joint EIS/BLM RMP and BIA IRMP in preparation for its release to the public as the Proposed Resource Management Plan and Final Environmental Impact Statement (Proposed RMP/Final EIS). The BLM and BIA will respond to each substantive comment received during the public review and comment period by making appropriate revisions to the document, or by explaining why the comment did not warrant a change. Notice of the Availability of the Proposed RMP/Final EIS will be published in the Federal Register.

Please note that public comments and other submitted information, including names, street addresses, and email addresses of persons submitting comments will be available for public review and disclosure by using one of the methods listed in the ADDRESSES section of this notice during regular business hours 8 a.m. to 4 p.m.), Monday through Friday, except holidays. To be included in the analysis, all comments must be received before the close of the 90-day public comment period or 15 days after the last public meeting, whichever is later.

Before including your address, phone number, email address, and/or other personal identifying information in your comment, you should be aware that your entire comment—including your personal identifying information—may be made publicly available at any time. While you can request in your comment that we withhold your personal identifying information from public review, we cannot guarantee that we will be able to do so.

Authority: 40 CFR 1506.6, 40 CFR 1506.10, 43 CFR 1610.2.

Aden L. Seidlitz,
Acting BLM New Mexico State Director.
Eddie Streater,
BIA Eastern Oklahoma Regional Director.
James Schock,
BIA Southern Plains Regional Director.

[FR Doc. 2018-25130 Filed 11-16-18; 8:45 am]

BILLING CODE 4310-FB-P